DEPARTMENT OF COMMERCE

Foreign-Trade Zones Board

[Docket 1-2001]

Foreign-Trade Zone 82—Mobile, AL; Application for Subzone Status Austal USA, LLC (Shipbuilding and Repair)

An application has been submitted to the Foreign-Trade Zones Board (the Board) by the City of Mobile, Alabama, grantee of FTZ 82, requesting special-purpose subzone status for the shipbuilding facility of Austal USA LLC (Austal) [an Austal Holdings, Inc. (of Australia)/Bender Shipbuilding, Inc. joint venture] in Mobile, Alabama. The application was submitted pursuant to the provisions of the Foreign-Trade Zones Act, as amended (19 U.S.C. 81a-81u), and the regulations of the Board (15 CFR part 400). It was formally filed on January 9, 2001.

The Austal shipyard (13 acres, 200,000 sq.ft.) is located at 100 Dunlap Drive in Mobile, Alabama. The facility (150 employees) is used for the construction of aluminum commercial and military vessels for domestic and international customers. Foreign components that may be used at the Austal shipyard (representing up to 9% of vessel value) include propulsion units, engines and control systems, generators, pumps, air-conditioning systems, pipes, iron and steel mill products, aluminum bars/rods/profiles/plates/sheets/wire/tanks/containers, solenoids, valves, multimeters, signaling equipment, articles of rubber, twine, glass, prefabricated structures, stoves/ranges, electric motors, navigation and electronic equipment, propellers, transmission shafts, lighting and electrical equipment, panels, consoles, printed circuit assemblies, regulating/controlling equipment, and telephonic apparatus (2000 duty rate range: free—14.9%, ad valorem).

FTZ procedures would exempt Austal from Customs duty payments on the foreign components (except steel mill products) used in export activity. On its domestic sales, the company would be able to choose the duty rate that applies to finished oceangoing vessels (duty free) for the foreign-origin components noted above. The manufacturing activity conducted under FTZ procedures would be subject to the “standard shipyard restriction” applicable to foreign-origin steel mill products (e.g., angles, pipe, plate), which requires that Customs duties be paid on such items. The application indicates that the savings from FTZ procedures would help improve the facility's international competitiveness.

In accordance with the Board's regulations, a member of the FTZ Staff has been designated examiner to investigate the application and report to the Board.

Public comment on the application is invited from interested parties. Submissions (original and three copies) shall be addressed to the Board's Executive Secretary at the address below. The closing period for their receipt is March 19, 2001. Rebuttal comments in response to material submitted during the foregoing period may be submitted during the subsequent 15-day period (to April 3, 2001).

A copy of the application will be available for public inspection at the following locations:

Office of the Port Director, U.S. Customs Service, Suite 3004, 150 North Royal Street, Mobile, AL 36602

Office of the Executive Secretary, Foreign-Trade Zones Board, room 4008, U.S. Department of Commerce, 14th Street & Constitution Avenue, NW., Washington, DC 20230

Dated: January 9, 2001.
Dennis Puccinelli,
Executive Secretary.

[FR Doc. 01-1384 Filed 1-16-01; 8:45 am]

BILLING CODE 3510-DS-P